DEPARTMENT OF COMMERCE

National Oceanic and Atmospheric Administration

[I.D. 011107C]

Endangered and Threatened Species; Take of Anadromous Fish

AGENCY: National Marine Fisheries Service (NMFS), National Oceanic and Atmospheric Administration (NOAA), Commerce.

ACTION: Receipt of an application for a scientific research permit; request for comments.

SUMMARY: Notice is hereby given that NMFS has received an application for a scientific research permit from Stillwater Sciences (Stillwater) in Berkeley, California (1282). The permit would affect federally threatened Southern Oregon/Northern California Coast coho salmon, endangered Central California Coast coho salmon, threatened California Coastal Chinook salmon, endangered Sacramento River winter-run Chinook salmon, threatened Central Valley spring-run Chinook salmon, threatened Northern California steelhead, threatened Central California Coast steelhead, threatened California Central Valley steelhead, threatened South-Central California Coast steelhead, and endangered Southern California steelhead. This document serves to notify the public of the availability of the permit application for review and comment.

DATES: Written comments on the permit application must be received no later than 5 p.m. Pacific Standard Time on February 21, 2007.

ADDRESSES: Comments submitted by e-mail must be sent to the following address: FRNpermits.SR@noaa.gov. The application and related documents are available for review by appointment, for Permit 1282: Protected Resources Division, NMFS, 777 Sonoma Avenue, Room 315, Santa Rosa, California 95404 (ph: 707-575-6097, fax: 707-578-3435).

FOR FURTHER INFORMATION CONTACT: Jeffrey Jahn at phone number 707-575-6097, or e-mail: Jeffrey.Jahn@noaa.gov.

SUPPLEMENTARY INFORMATION:

Authority

Issuance of permits, as required by the Endangered Species Act of 1973 (16 U.S.C. 1531-1543) (ESA), is based on a finding that such permits: (1) Are applied for in good faith; (2) would not operate to the disadvantage of the listed species which are the subject of the permits; and (3) are consistent with the purposes and policies set forth in section 2 of the ESA. Authority to take listed species is subject to conditions set forth in the permits. Permits are issued in accordance with and are subject to the ESA and NMFS regulations governing listed fish and wildlife permits (50 CFR parts 222-226).

Those individuals requesting a hearing on an application listed in this notice should set out the specific reasons why a hearing on that application would be appropriate (see ADDRESSES). The holding of such a hearing is at the discretion of the Assistant Administrator for Fisheries, NOAA. All statements and opinions contained in the permit action summaries are those of the applicant and do not necessarily reflect the views of NMFS.

Species Covered in This Notice

This notice is relevant to federally threatened Southern Oregon/Northern California Coast coho salmon (Oncorhynchus kisutch), endangered Central California Coast coho salmon (O. kisutch), threatened California Coastal Chinook salmon (O. tshawytscha), endangered Sacramento River winter-run Chinook salmon (O. tshawytscha), threatened Central Valley spring-run Chinook salmon (O. tshawytscha), Northern California steelhead (O. mykiss), threatened Central California Coast steelhead (O. mykiss), threatened California Central Valley steelhead (O. mykiss), threatened South-Central California Coast steelhead (O. mykiss), and endangered Southern California steelhead (O. mykiss).

Application Received

Stillwater requests a 5-year permit (1282) for take of juvenile Southern Oregon/Northern California Coast coho salmon, Central California Coast coho salmon, California Coastal Chinook salmon, Sacramento River winter-run Chinook salmon, Central Valley spring-run Chinook salmon, Northern California steelhead, Central California Coast steelhead, California Central Valley steelhead, South-Central California Coast steelhead, and Southern California steelhead; and adult Central California Coast steelhead and California Central Valley steelhead associated with 11 scientific research projects located throughout California.

Project 1 is a salmonid population abundance, out-migration monitoring, and habitat assessment study in the Santa Paula Creek watershed (a tributary to the Santa Clara River), in Ventura County, California. Stillwater requests authorization for an estimated annual non-lethal take of 940 juvenile Southern California steelhead, with no more than 1 percent unintentional mortality to result from capture (by rotary screw trap, pipe-trap, fyke-net trap, or backpack electrofishing), handling, and release of fish. Stillwater also requests authorization for an estimated annual non-lethal take of 60 juvenile Southern California steelhead, with no more than 1 percent unintentional mortality to result from capture (by rotary screw trap, pipe-trap, or fyke-net trap), handling, fin-clipping, and release of fish.

Project 2 is a salmonid distribution and population abundance study in the following coastal water bodies, all located within Northern or Central California: Tillas Slough, Lake Earl, and Lake Tolowa in Del Norte County; Stone Lagoon, Big Lagoon, Humboldt Bay, and Eel River lagoon in Humboldt County; Ten Mile River lagoon, Virgin Creek lagoon, Pudding Creek lagoon, Davis Lake, and numerous unnamed ponds in Manchester Beach State Park in Mendocino County; Salmon Creek lagoon and Estero Americano lagoon in Sonoma County; Estero de San Antonio lagoon, Lagunitas Creek lagoon, and Rodeo Lagoon in Marin County; San Gregorio Creek lagoon, Pescadero Creek and Butano Creek lagoon, Bean Hollow Creek lagoon, and Arroyo de los Frijoles lagoon in San Mateo County; Laguna Creek lagoon, Baldwin Creek lagoon, Corcoran Lagoon, Aptos Creek lagoon, and Pajaro River lagoon in Santa Cruz County; and Bennett Slough in Monterey County. Stillwater requests authorization for an estimated annual non-lethal take of 100 juvenile Southern Oregon/Northern California Coast coho salmon, 100 juvenile Central California Coast coho salmon, 100 juvenile California Coastal Chinook salmon, 100 juvenile Northern California steelhead, 100 juvenile Central California Coast steelhead, and 100 juvenile South-Central California Coast steelhead, with no more than 5 percent unintentional mortality to result from capture (by beach seine), handling, and release of fish.

Project 3 is a salmonid distribution, habitat utilization, and fish community assemblage study in the lower Sacramento River and San Joaquin River delta at Sherman Island in Sacramento County, California. Stillwater requests authorization for an estimated annual non-lethal take of 75 juvenile Sacramento River winter-run Chinook salmon, 75 juvenile Central Valley spring-run Chinook salmon, and 75 juvenile California Central Valley steelhead with no more than 4 percent unintentional mortality to result from capture (by beach seine, purse seine, trawl, fyke-net trap, backpack electrofishing, or boat electrofishing), handling, and release of fish.

Project 4 is a salmonid population abundance, out-migration monitoring, habitat utilization, diet composition, and life history study in the Lagunitas Creek watershed in Marin County, California. Stillwater requests authorization for an estimated annual non-lethal take of: 900 juvenile Central California Coast coho salmon and 900 juvenile Central California Coast steelhead, with no more than 2 percent unintentional mortality to result from capture (by backpack electrofishing), handling, fin-clipping, tagging (using passive integrated transponder (PIT) tags or visible implant elastomer (VIE tags)), and release of fish; 100 juvenile Central California Coast coho salmon and 100 juvenile Central California Coast steelhead, with no more than 2 percent unintentional mortality to result from capture (by backpack electrofishing), handling, fin-clipping, scale-sampling, tagging (using PIT tags or VIE tags), and release of fish; and 50 juvenile Central California Coast coho salmon and 50 juvenile Central California Coast steelhead, with no more than 2 percent unintentional mortality to result from capture (by backpack electrofishing), handling, stomach sampling, and release of fish. Stillwater also requests authorization for an estimated annual non-lethal take of: 1,200 juvenile Central California Coast coho salmon, 400 juvenile California Coastal Chinook salmon, and 800 juvenile Central California Coast steelhead, with no more than 1 percent unintentional mortality to result from capture (by rotary screw trap, pipe-trap, or fyke-net trap), handling, and release of fish; 300 juvenile Central California Coast coho salmon, 100 juvenile California Coastal Chinook salmon, and 200 juvenile Central California Coast steelhead, with no more than 1 percent unintentional mortality to result from capture (by rotary screw trap, pipe-trap, or fyke-net trap), handling, fin-clipping, and release of fish; and 25 juvenile Central California Coast steelhead, with no more than 10 percent unintentional mortality to result from capture (by rotary screw trap, pipe-trap, or fyke-net trap), handling, radio-tagging, and release of fish.

Project 5 is a salmonid population abundance, out-migration monitoring, habitat utilization, and life history study in the Walker Creek watershed in Marin County, California. Stillwater requests authorization for an estimated annual non-lethal take of: 80 juvenile Central California Coast coho salmon and 400 juvenile Central California Coast steelhead, with no more than 2 percent unintentional mortality to result from capture (by backpack electrofishing), handling, fin-clipping, tagging (using PIT tags or VIE tags), and release of fish; and 20 juvenile Central California Coast coho salmon and 100 juvenile Central California Coast steelhead, with no more than 2 percent unintentional mortality to result from capture (by backpack electrofishing), handling, fin-clipping, scale-sampling, tagging (using PIT tags or VIE tags), and release of fish. Stillwater also requests authorization for an estimated annual non-lethal take of 100 juvenile Central California Coast coho salmon and 100 juvenile Central California Coast steelhead, with no more than 1 percent unintentional mortality to result from capture (by rotary screw trap, pipe-trap, or fyke-net trap), handling, fin-clipping, and release of fish; and 25 juvenile Central California Coast steelhead, with no more than 10 percent unintentional mortality to result from capture (by rotary screw trap, pipe-trap, or fyke-net trap), handling, radio-tagging, and release of fish.

Project 6 is a salmonid distribution, habitat utilization, habitat assessment, and fish community assemblage study in the following watersheds which are all within the Sacramento River watershed in California: Cow Creek in Shasta County; Battle Creek and Rock Creek in Tehama County; Butte Creek in Butte County; Feather River in Butte and Sutter counties; and American River and Mokelumne River in Sacramento County. Stillwater requests authorization for an estimated annual non-lethal take of 500 juvenile Central Valley spring-run Chinook salmon and 1,000 juvenile California Central Valley steelhead, with no more than 2 percent unintentional mortality to result from capture (by seine or backpack electrofishing), handling, and release of fish.

Project 7 is a salmonid distribution, population abundance, habitat utilization, and fish community assemblage study in Merced River, in Merced County, California. Stillwater requests authorization for an estimated annual non-lethal take of 100 juvenile California Central Valley steelhead, with no more than 5 percent unintentional mortality to result from capture (by seine, backpack electrofishing, or boat electrofishing), handling, and release of fish. Stillwater also requests authorization for an estimated annual non-lethal take of 5 adult California Central Valley steelhead, with zero unintentional mortality to result from capture (by seine, backpack electrofishing, or boat electrofishing), handling, and release of fish.

Project 8 is a salmonid distribution, population abundance, habitat utilization, habitat assessment, and fish community assemblage study in the lower Tuolumne River in Stanislaus County, California. Stillwater requests authorization for an estimated annual non-lethal take of 20 juvenile California Central Valley steelhead, with no more than 10 percent unintentional mortality to result from capture (by seine, fyke-net trap, backpack electrofishing, or boat electrofishing), handling, and release of fish.

Project 9 is a salmonid population abundance, out-migration monitoring, habitat utilization, food availability, predation, and life history study in the Napa River watershed in Napa County, California. Stillwater requests authorization for an estimated annual non-lethal take of: 300 juvenile Central California Coast steelhead, with no more than 2 percent unintentional mortality to result from capture (by backpack electrofishing), handling, tagging (using PIT tags), and release of fish; 1,900 juvenile Central California Coast steelhead, with no more than 2 percent unintentional mortality to result from capture (by rotary screw trap, pipe-trap, or fyke-net trap), handling, and release of fish; 100 juvenile Central California Coast steelhead, with no more than 2 percent unintentional mortality to result from capture (by rotary screw trap, pipe-trap, or fyke-net trap), handling, tagging (using PIT tags), and release of fish; and 200 juvenile Central California Coast steelhead with no more than 2 percent unintentional mortality to result from capture (by boat electrofishing), handling, and release of fish. Stillwater also requests authorization for an estimated annual non-lethal take of 3 adult Central California Coast steelhead, with zero unintentional mortality to result from accidental encounter during boat electrofishing activities. Stillwater does not request capture, handling, or unintentional mortality of adult salmonids associated with this study.

Project 10 is a salmonid distribution, population abundance, habitat utilization, and habitat assessment study in Tuolumne River in Stanislaus County, California. Stillwater requests authorization for an estimated annual non-lethal take of 100 juvenile California Central Valley steelhead, with no more than 2 percent unintentional mortality to result from capture (by seine, backpack electrofishing, or boat electrofishing), handling, and release of fish.

Project 11 is a salmonid population abundance, out-migration monitoring, habitat utilization, and life history study in the Gualala River watershed in Mendocino County, California. Stillwater requests authorization for an estimated annual non-lethal take of: 1,000 juvenile Northern California steelhead, with no more than 2 percent unintentional mortality to result from capture (by backpack electrofishing), handling, and release of fish; and 500 juvenile Northern California steelhead, with no more than 2 percent unintentional mortality to result from capture (by backpack electrofishing), handling, fin-clipping, tagging (using PIT tags or VIE tags), and release of fish. Stillwater also requests authorization for an estimated annual non-lethal take of: 400 juvenile Northern California steelhead, with no more than 1 percent unintentional mortality to result from capture (by rotary screw trap, pipe-trap, or fyke-net trap), handling, and release of fish; 100 juvenile Northern California steelhead, with no more than 1 percent unintentional mortality to result from capture (by rotary screw trap, pipe-trap, or fyke-net trap), handling, fin-clipping, and release of fish; and 25 juvenile Northern California steelhead, with no more than 10 percent unintentional mortality to result from capture (by rotary screw trap, pipe-trap, or fyke-net trap), handling, radio-tagging, and release of fish.

Dated: January 12, 2007.
Angela Somma,
Chief, Endangered Species Division, Office of Protected Resources, National Marine Fisheries Service.

[FR Doc. E7-742 Filed 1-19-07; 8:45 am]

BILLING CODE 3510-22-S